DEPARTMENT OF TRANSPORTATION

Federal Aviation Administration

14 CFR Part 39

[Docket No. FAA-2007-28299; Directorate Identifier 2005-NM-139-AD]

RIN 2120-AA64

Airworthiness Directives; Boeing Model 747-100, 747-100B, 747-100B SUD, 747-200B, 747-200C, 747-200F, 747-300, 747-400, 747-400D, 747-400F, 747SR, and 747SP Series Airplanes; and Model 767-200 and -300 Series Airplanes; Equipped with Certain Goodrich Evacuation Systems

AGENCY: Federal Aviation Administration (FAA), Department of Transportation (DOT).

ACTION: Notice of proposed rulemaking (NPRM).

SUMMARY: The FAA proposes to adopt a new airworthiness directive (AD) for certain Boeing Model 747-100, 747-100B, 747-100B SUD, 747-200B, 747-200C, 747-200F, 747-300, 747-400, 747-400D, 747-400F, 747SR, and 747SP series airplanes; and Model 767-200 and -300 series airplanes equipped with certain Goodrich evacuation systems. For certain airplanes, this proposed AD would require replacing the evacuation systems shear-pin restraints with new ones. For certain other airplanes, this proposed AD would require an inspection for manufacturing lot numbers; and a general visual inspection of the shear-pin restraints for discrepancies, and corrective actions if necessary. This proposed AD results from several reports of corroded shear-pin restraints that prevented Goodrich evacuation systems from deploying properly. We are proposing this AD to prevent failure of the evacuation system, which could impede an emergency evacuation and increase the chance of injury to passengers and flightcrew during the evacuation.

DATES: We must receive comments on this proposed AD by July 13, 2007.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact Goodrich, Aircraft Interior Products, ATTN: Technical Publications, 3414 South Fifth Street, Phoenix, AZ 85040-1169, for the service information identified in this proposed AD.

FOR FURTHER INFORMATION CONTACT: Tracy Ton, Aerospace Engineer, Cabin Safety/Mechanical and Environmental Systems Branch, ANM-150L, FAA, Los Angeles Aircraft Certification Office, 3960 Paramount Boulevard, Lakewood, California 90712-4137; telephone (562) 627-5352; fax (562) 627-5210.

SUPPLEMENTARY INFORMATION:

Comments Invited

We invite you to submit any relevant written data, views, or arguments regarding this proposed AD. Include the docket number “FAA-2007-28299; Directorate Identifier 2005-NM-139-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

We have received several reports indicating that Goodrich evacuation systems have not deployed properly on certain Boeing Model 747 and 767 airplanes due to corroded shear-pin restraints. The corrosion problem arose concurrently with a 1998 change in the anodize specification for restraint bodies. Corrosion of the shear-pin restraints, if not corrected, could lead to higher than designed release values, and in severe cases, could cause the two halves of the restraints to freeze up, which could lead to improper deployment and/or loss of use of the evacuation system. That loss could impede passengers during an emergency evacuation and increase the chance of injury to passengers and flightcrew during an evacuation.

Other Relevant Rulemaking

Although there have been no reported deployment difficulties of certain Goodrich evacuation systems installed as a technical standard order (TSO) appliance on certain Airbus and McDonnell Douglas transport category airplanes, and certain Boeing Model 737 and 777 airplanes, the Goodrich evacuation systems installed on those airplanes use the same shear-pin restraints as those affected evacuation systems installed on the Boeing Model 747 and 767 airplanes affected by this proposed AD. Therefore, all technical standard ordered and type certificated Goodrich evacuation systems are subject to the identified unsafe condition. We are planning to issue similar rulemaking (Directorate Identifier 2003-NM-239-AD) for certain Goodrich units installed as a TSO appliance on certain Airbus, McDonnell Douglas, and Boeing Model 737 and 777 transport category airplanes.

Relevant Service Information

We have reviewed Goodrich Service Bulletin 25-343, Revision 3, dated January 12, 2007. For certain evacuation systems, the service bulletin describes procedures for replacing the shear-pin restraints with new, improved restraints. For certain other evacuation systems, the service bulletin describes procedures for an inspection to verify the manufacturing lot number of the restraints; and a general visual inspection of the restraints for discrepancies (i.e., corrosion, security of pin retainer/label, overall condition, and lack of play), and corrective action if necessary. The corrective action is replacing the shear-pin restraints with new shear-pin restraints. Accomplishing the actions specified in the service information is intended to adequately address the unsafe condition.

FAA's Determination and Requirements of the Proposed AD

We have evaluated all pertinent information and identified an unsafe condition that is likely to exist or develop on other airplanes of this same type design. For this reason, we are proposing this AD, which would require accomplishing the actions specified in the service information described previously, except as discussed under “Difference Between the Proposed AD and the Service Bulletin.”

Difference Between the Proposed AD and the Service Bulletin

Although the service bulletin recommends accomplishing the replacement or inspection “at the next shop visit,” we have determined that this imprecise compliance time would not address the identified unsafe condition soon enough to ensure an adequate level of safety for the affected fleet. In developing an appropriate compliance time for this AD, we considered the manufacturer's recommendation, the degree of urgency associated with the subject unsafe condition, and the average utilization of the affected fleet. In light of all of these factors, we find that a compliance time of 36 months represents an appropriate interval of time for affected airplanes to continue to operate without compromising safety. We have coordinated this difference with the manufacturer.

Costs of Compliance

There are about 1,063 airplanes of the affected design in the worldwide fleet. This proposed AD would affect about 144 airplanes of U.S. registry. The following table provides the estimated costs for U.S. operators to comply with this proposed AD.

Estimated Costs
Action | Work hours per slide unit | Average labor rate per hour | Parts | Number of slide units per airplane | Cost per airplane | Fleet cost
Replacement | Between 2 and 9 | $80 | Between $58 and $638, depending on number of restraints | Between 1 and 12 | Between $218 and $16,296 | Between $31,392 and $2,346,624.
Inspection | Between 2 and 9 | $80 | None | Between 1 and 12 | Between $160 and $8,640 | Between $23,040 and $1,244,160.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Boeing: Docket No. FAA-2007-28299; Directorate Identifier 2005-NM-139-AD.

Comments Due Date

(a) The FAA must receive comments on this AD action by July 13, 2007.

Affected ADs

(b) None.

Applicability

(c) This AD applies to Boeing Model 747-100, 747-100B, 747-100B SUD, 747-200B, 747-200C, 747-200F, 747-300, 747-400, 747-400D, 747-400F, 747SR, and 747SP series airplanes; and Model 767-200 and -300 series airplanes; certificated in any category; equipped with any Goodrich evacuation system listed in Table 1 of this AD.

Table 1.—Goodrich Evacuation Systems
Goodrich evacuation systems part No. | Serial No. (S/N) | Component/part name
(1) 101651-303 | PA2475 through PA2955 inclusive | Slide/Raft, forward/aft doors.
(2) 7A1412-3 through 7A1412-8 inclusive | GU0154 through GU0325 inclusive | Slide, upper deck.
(3) 101651-109 through 101651-303 inclusive | All S/Ns with a B51 prefix, and S/Ns PA0001 through PA2474 inclusive | Slide/Raft, forward/aft doors.
(4) 7A1101-20 through 7A1101-24 inclusive | All S/Ns with a single letter G prefix, and S/Ns GL0001 through GL0099 inclusive | Slide, doors 1 and 2.
(5) 7A1102-20 through 7A1102-24 inclusive | All S/Ns with a single letter G prefix, and S/Ns GN001 through GN121 inclusive | Slide, door 4.
(6) Even dash numbers 7A1103-46 through 7A1103-52 | All even S/Ns with a single letter G prefix, and even S/Ns GC0002 through GC0128 | Slide, door 5, right-hand (RH) side.
(7) Odd dash numbers 7A1103-45 through 7A1103-51 | All odd S/Ns with a single letter G prefix, and odd S/Ns GC0001 through GC0127 | Slide, door 5, left-hand (LH) side.
(8) 7A1104-14 through 7A1104-24 inclusive | All S/Ns with a single letter G prefix, and S/Ns GM0001 through GM0138 inclusive | Slide, crew door.
(9) Odd dash numbers 7A1105-35 through 7A1105-43 | All | Slide, off-wing, LH side.
(10) Even dash numbers 7A1105-36 through 7A1105-44 | All | Slide, off-wing, RH side.
(11) Odd dash numbers 7A1238-3 through 7A1238-69 | All odd S/Ns with a single letter G prefix, and odd S/Ns GE0001 through GE2091 | Slide/Raft, doors 1, 2, and 4, LH side.
(12) Even dash numbers 7A1238-4 through 7A1238-70 | All even S/Ns with a single letter G prefix, and even S/Ns GE0002 through GE2076 | Slide/Raft, doors 1, 2, and 4, RH side.
(13) Odd dash numbers 7A1239-3 through 7A1239-33 | All odd S/Ns with a single letter G prefix, and odd S/Ns GF0001 through GF0649 | Slide/Raft, door 5, LH side.
(14) Even dash numbers 7A1239-4 through 7A1239-34 | All even S/Ns with a single letter G prefix, and even S/Ns GF0002 through GF0650 | Slide/Raft, door 5, RH side.
(15) Odd dash numbers 7A1248-1 through 7A1248-35 | All odd S/Ns with a single letter G prefix, and odd S/Ns GU001 through GU321 | Slide, upper deck, LH side.
(16) Even dash numbers 7A1248-2 through 7A1248-36 | All even S/Ns with a single letter G prefix, and even S/Ns GU002 through GU662 | Slide, upper deck, RH side.
(17) Odd dash numbers 7A1252-1 through 7A1252-9 | All odd S/Ns with a single letter G prefix, and odd S/Ns GO001 through GO505 | Slide, off-wing, LH side.
(18) Even dash numbers 7A1252-2 through 7A1252-10 | All even S/Ns with a single letter G prefix, and even S/Ns GO002 through GO506 | Slide, off-wing, RH side.
(19) Odd dash numbers 7A1255-1 through 7A1255-29 | All odd S/Ns with a single letter G prefix, and odd S/Ns WH0001 through WH0139 | Slide/Raft, door 2, LH side.
(20) Even dash numbers 7A1255-2 through 7A1255-30 | All even S/Ns with a single letter G prefix, and even S/Ns WH0002 through WH0136 | Slide/Raft, door 2, RH side.
(21) Odd dash numbers 7A1256-1 through 7A1256-29 | All odd S/Ns with a single letter G prefix, and odd S/Ns with WI0001 through WI0143 | Slide/Raft, door 3, LH side.
(22) Even dash numbers 7A1256-2 through 7A1256-30 | All even S/Ns with a single letter G prefix, and even S/Ns WI0002 through WI0144 | Slide/Raft, door 3, RH side.
(23) Odd dash numbers 7A1257-1 through 7A1257-29 | All odd S/Ns with a single letter G prefix, and odd S/Ns WJ0001 through WJ0167 | Slide/Raft, door 4, LH side.
(24) Even dash numbers 7A1257-2 through 7A1257-30 | All even S/Ns with a single letter G prefix, and even S/Ns WJ0002 through WJ0160 | Slide/Raft, door 4, RH side.
(25) Odd dash numbers 7A1261-1 through 7A1261-33 | All odd S/Ns with a single letter G prefix, and odd S/Ns WG0001 through WG0165 | Slide/Raft, door 1, LH side.
(26) Even dash numbers 7A1261-2 through 7A1261-34 | All even S/Ns with a single letter G prefix, and even S/Ns WG0002 through WG0162 | Slide/Raft, door 1, RH side.
(27) 7A1412-1 through 7A1412-8 inclusive | All S/Ns with a single letter G prefix, and S/Ns GU001 through GU153 | Slide, upper deck.

Unsafe Condition

(d) This AD results from several reports of corroded shear-pin restraints that prevented Goodrich evacuation systems from deploying properly. We are issuing this AD to prevent failure of the evacuation system, which could impede an emergency evacuation and increase the chance of injury to passengers and flightcrew during the evacuation.

Compliance

(e) You are responsible for having the actions required by this AD performed within the compliance times specified, unless the actions have already been done.

Service Bulletin Reference

(f) The term “service bulletin,” as used in this AD, means the Accomplishment Instructions of Goodrich Service Bulletin 25-343, Revision 3, dated January 12, 2007.

Replacement, or Inspections and Corrective Action

(g) Within 36 months after the effective date of this AD, do the actions specified in paragraph (g)(1) or (g)(2) of this AD in accordance with the service bulletin.

(1) For airplanes equipped with any Goodrich evacuation system identified in paragraph (c)(1) or (c)(2) of this AD: Replace the shear-pin restraints with new restraints.

(2) For airplanes equipped with any Goodrich evacuation system identified in paragraphs (c)(3) through (c)(27) of this AD: Do an inspection to verify the manufacturing lot number of the shear-pin restraint. A review of airplane maintenance records is acceptable in lieu of this inspection if the manufacturing lot number of the shear-pin restraint can be conclusively determined from that review.

(i) If a manufacturing lot number from 3375 through 5551 inclusive is found, before further flight, replace the shear-pin restraint with a new restraint.

(ii) If a manufacturing lot number from 3375 through 5551 inclusive is not found, do a general visual inspection of the shear-pin restraints for discrepancies (i.e., corrosion, security of pin retainer/label, overall condition, and lack of play). If any discrepancy is found, before further flight, replace the shear-pin restraint with a new restraint.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Parts Installation

(h) As of the effective date of this AD, no Goodrich evacuation system with a part number and serial number identified in paragraph (c)(1) or (c)(2) of this AD may be installed on any airplane, unless the shear-pin restraints have been replaced with new restraints in accordance with paragraph (g)(1) of this AD.

(i) As of the effective date of this AD, no Goodrich evacuation system with a part number and serial number identified in paragraphs (c)(3) through (c)(27) of this AD may be installed on any airplane, unless the shear-pin restraints have been inspected and found acceptable in accordance with paragraph (g)(2) of this AD.

Credit for Actions Done Using Previous Service Information

(j) Replacements and inspections done before the effective date of this AD in accordance with Goodrich Service Bulletin 25-343, dated October 15, 2003; Revision 1, dated January 31, 2005; or Revision 2, dated October 11, 2006; are acceptable for compliance with the requirements of paragraph (h) of this AD.

Alternative Methods of Compliance (AMOCs)

(k)(1) The Manager, Los Angeles Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Issued in Renton, Washington, on May 21, 2007.
Ali Bahrami,
Manager, Transport Airplane Directorate, Aircraft Certification Service.

[FR Doc. E7-10239 Filed 5-25-07; 8:45 am]

BILLING CODE 4910-13-P